DEPARTMENT OF HEALTH AND HUMAN SERVICES

Indian Health Service

Tribal Self-Governance Negotiation Cooperative Agreement Program

Correction

In notice document 2023-09097, appearing on pages 26569-26577, in the issue of Monday, May 1, 2023, make the following correction:

On page 26569, in the third column, in the first and second lines after Key Dates, “Application Deadline Date: May 1, 2023.” should read, “Application Deadline Date: June 30, 2023.”.

[FR Doc. C1-2023-09097 Filed 5-4-23; 8:45 am]

BILLING CODE 0099-10-D